DEPARTMENT OF STATE

[Public Notice 5758]

Defense Trade Advisory Group; Notice of Open Meeting

AGENCY: Department of State.

ACTION: Notice.

SUMMARY: The Defense Trade Advisory Group (DTAG) will meet in open session from 9 a.m. to 12 noon on Thursday, September 20, 2007, in the East Auditorium at the U.S. Department of State, Harry S. Truman Building, Washington, DC. Entry and registration will begin at 8:15 a.m. Please use the building entrance located at 21st Street, NW., Washington, DC between C&D Streets. The membership of this advisory committee consists of private sector defense trade specialists, appointed by the Assistant Secretary of State for Political-Military Affairs, who advise the Department on policies, regulations, and technical issues affecting defense trade. The purpose of the meeting will be to discuss current defense trade issues and topics for further study.

Members of the public may attend this open session and will be permitted to participate in the discussion in accordance with the Chairman's instructions. They may also, if they wish, submit a brief statement to the committee in writing.

As access to the Department of State facilities is controlled, persons wishing to attend the meeting must notify the DTAG Executive Secretariat by COB Thursday, September 13, 2007. If notified after this date, the DTAG Secretariat cannot guarantee that State's Bureau of Diplomatic Security can complete the necessary processing required to attend the September 20th plenary.

Each non-member observer or DTAG member that wishes to attend this plenary session should provide: His/her name; company or organizational affiliation; phone number; date of birth; and identifying data such as driver's license number, U.S. Government ID, or U.S. Military ID, to the DTAG Secretariat contact person, Nicholas Memos, via e-mail at MemosNI@state.gov. A RSVP list will be provided to Diplomatic Security. One of the following forms of valid photo identification will be required for admission: U.S. driver's license, passport, U.S. Government ID, or other valid photo ID.

FOR FURTHER INFORMATION CONTACT: For additional information, contact Nicholas Memos, PM/DDTC, SA-1, 12th Floor, Directorate of Defense Trade Controls, Bureau of Political-Military Affairs, U.S. Department of State, Washington, DC 20522-0112; telephone (202) 663-2804; fax (202) 663-261-8199; or e-mail MemosNI@state.gov.

Dated: April 10, 2007.
Robert W. Maggi,
Executive Secretary, Defense Trade Advisory Group, Department of State.

[FR Doc. E7-7274 Filed 4-16-07; 8:45 am]

BILLING CODE 4710-25-P